DEPARTMENT OF ENERGY

Federal Energy Regulatory Commission

Notice of Application Ready for Environmental Analysis and Soliciting Comments, Recommendations, Terms and Conditions, and Prescriptions

May 15, 2001.

Take notice that the following hydroelectric application has been filed with the Commission and is available for public inspection.

a. Type of Application: New Major License.

b. Project No.: 1934-010.

c. Date filed: April 29, 1994.

d. Applicant: Southern California Edison Company.

e. Name of Project: Mill Creek 2/3 Hydroelectric Project.

f. Location: On Mill Creek, near the town of Yucaipa, San Bernardino County, California. The project is located within the San Bernardino National Forest.

g. Filed Pursuant to: Federal Power Act, 16 U.S.C. 791(a)-825(r).

h. Applicant Contact: Mr. Walter D. Pagel, Manager of the Eastern Hydro Region, Southern California Edison Company, 300 N. Lone Hill Avenue, San Dimas, CA 91773, (909) 394-8720.

i. FERC Contact: Mr. Jon Cofrancesco, (202) 219-0079 or E-mail at jon.confrancesco@FERC.fed.us

j. Deadline for filing comments, recommendations, terms and conditions, and prescriptions: August 31, 2001.

All documents (original and eight copies) should be filed with: David P. Boergers, Secretary, Federal Energy Regulatory Commission, 888 First Street, NE., Washington, DC 20426. Comments, recommendations, terms and conditions, prescriptions, protests and interventions may be filed electronically via the internet in lieu of paper. See 18 CFR 385.2001(a)(1)(iii) and the instructions on the Commission's web site at http://www.ferc.fed.us/efi/doorbell.htm.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted and is now ready for environmental analysis.

l. The existing Mill Creek 2/3 Hydroelectric Project consists of two independent water conveyance and generation systems on Mill Creek. The Mill 3 development is located upstream of the Mill 2 development and they share a common powerhouse. Mill 3 consists of: (1) A 7-foot-high, 80-foot-long rubble concrete diversion dam with a crest elevation of 4,982 feet; (2) an intake structure with a steel debris grid and a fish wheel (3) a 5.4-mile-long flowline; (4) a concrete sand box; (5) a 8,120-foot-long steel penstock; (6) the portion of the Mill 2/3 powerhouse that houses the four Mill 3 generating units with an installed capacity of 3,000 kW; (7) a 265-foot-long, 12-kV transmission line; and (8) other appurtenant structures. SCE proposes to continue to operate the Mill 3 development as it has historically operated.

The existing Mill 2 consists of: (1) The Mountain Home Creek diversion dam, a 3-foot-high, 42-foot-long, rubble concrete weir with a crest elevation of 3,626 feet; (2) the Mill 2 River Pick-up, a 2-foot-high, 34-foot-long, rubble concrete structure with a crest elevation of 3,593 feet; (3) a concrete intake structure with trashracks, drum-type fish screen, leaf rake and overflow pipe; (4) a 2.9-mile-long flowline system; (5) a concrete-lined sandbox, (6) a 600-cfs concrete-lined forebay; (7) an 18-inch-diameter, 1,411-foot-long steel penstock; (8) the portion of the Mill 2/3 powerhouse that houses the single 250-kW Mill 2 generating unit; and (9) other appurtenant structures. Because of damage resulting from an earthquake in July of 1992, the Mill 2 flowline has not been used since that time. SCE proposes to remove the Mill 2 flowline, diversions and generating equipment from the project.

m. A copy of the application is available for inspection and reproduction at the Commission's Public Reference Room, located at 888 First Street, NE., Room 2-A, Washington, DC 20426, or by calling (202) 208-1371. The application may be viewed on http://www.ferc.fed.us/online/rims.htm (call (202) 208-2222 for assistance). A copy is also available for inspection and reproduction at the address in item h above.

n. The Commission directs, pursuant to Section 4.34(b) of the Regulations (see Order No. 533 issued May 8, 1991, 56 FR 23108, May 20, 1991) that all comments, recommendations, terms and conditions and prescriptions concerning the application be filed with the Commission within 60 days from the issuance date of this notice, or longer if appropriate (see item j). All reply comments must be filed with the Commission within 45 days from the date of the comment deadline.

Anyone may obtain an extension of time for these deadlines from the Commission only upon a showing of good cause or extraordinary circumstances in accordance with 18 CFR 385.2008.

All filings must (1) bear in all capital letters the title “COMMENTS”, “REPLY COMMENTS”, “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b), and 385.2010.

David P. Boergers,
Secretary.

[FR Doc. 01-12660 Filed 5-18-01; 8:45 am]

BILLING CODE 6717-01-M